DEPARTMENT OF STATE

[Public Notice 7147]

Culturally Significant Objects Imported for Exhibition Determinations: “Sheila Hicks: 50 Years”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the objects to be included in the exhibition “Sheila Hicks: 50 Years,” imported from abroad for temporary exhibition within the United States, are of cultural significance. The objects are imported pursuant to loan agreements with the foreign owners or custodians. I also determine that the exhibition or display of the exhibit objects at the Addison Gallery of American Art, Phillips Academy, Andover, MA, from on or about November 5, 2010, until on or about February 27, 2011; at the Institute of Contemporary Art, University of Pennsylvania, Philadelphia, PA, from on or about March 25, 2011, until on or about August 7, 2011; at the Mint Museum Craft + Design, Charlotte, NC, from on or about October 1, 2011, until on or about January 29, 2012, and at possible additional exhibitions or venues yet to be determined, is in the national interest. Public Notice of these Determinations is ordered to be published in the Federal Register.

FOR FURTHER INFORMATION CONTACT: For further information, including a list of the exhibit objects, contact Carol B. Epstein, Attorney-Adviser, Office of the Legal Adviser, U.S. Department of State (telephone: 202/632-6473). The address is U.S. Department of State, SA-5, L/PD, Fifth Floor, Washington, DC 20522-0505.

Dated: August 25, 2010.
Ann Stock,
Assistant Secretary, Bureau of Educational and Cultural Affairs, Department of State.

[FR Doc. 2010-21844 Filed 8-31-10; 8:45 am]

BILLING CODE 4710-05-P